DEPARTMENT OF ENERGY

Federal Energy Regulatory Commission

[Project No. 14436-000]

Kaweah River Power Authority; Errata Notice

On August 22, 2012, the Commission issued a Notice in the above-referenced proceeding. Notice of Preliminary Permit Application Accepted For Filing And Soliciting Comments, Motions To Intervene, And Competing Applications, August 22, 2012. (August 22, 2012). The county location of the project was incorrectly identified as Tulare County, Nevada. The correct county location of the project is Tulare County, California.

Dated: September 11, 2012.
Kimberly D. Bose,
Secretary.

[FR Doc. 2012-23021 Filed 9-18-12; 8:45 am]

BILLING CODE 6717-01-P